ENVIRONMENTAL PROTECTION AGENCY

[FRL-7597-8]

Stakeholder Comment on Preliminary National Enforcement and Compliance Assurance Priorities for Fiscal Years 2005, 2006 and 2007

AGENCY: Environmental Protection Agency.

ACTION: Solicitation of recommendations and comments.

SUMMARY: This Notice is a Federal Agency request for the public to comment and provide recommendations on triennial national enforcement and compliance assurance priorities to be addressed for fiscal years 2005, 2006 and 2007. The information submitted by commentors will be considered as part of the process EPA uses to identify and select national enforcement and compliance priorities. Final priority selections will be incorporated into the EPA's Office of Enforcement and Compliance Assurance Workplanning Guidance (which provides national program direction for all EPA Regional offices). These priorities will also affect implementation of the enforcement and compliance goals and objectives outlined in the EPA Strategic Plan, as mandated under the Government Performance and Results Act (GPRA).

DATES: The agency must receive comments and recommendations on or before January 12, 2004.

ADDRESSES: Submit all electronic comments and recommendations to docket.oeca@epa.gov. Please reference Docket Number OECA-2003-0154 in the submission. (Comments may be submitted on disk in WordPerfect 8.0 or earlier versions) Written comments can be mailed to: Enforcement & Compliance Docket and Information Center (2201T). Docket Number OECA-2003-0154. Office of Enforcement and Compliance Assurance, U.S. Environmental Protection Agency, 1200 Penn. Ave., NW., Washington, DC 20460. Please be aware that mail addressed to EPA headquarters may experience delays in delivery resulting from security screening. Comments may be delivered in person to: U.S. Environmental Protection Agency, Public Reading Room, Room B102, EPA West Building, 1301 Constitution Avenue, NW., Washington, DC 20460.

FOR FURTHER INFORMATION CONTACT: Robert Tolpa, Chief, Planning and Analysis Branch; Voice: (202) 564-2337, Fax: (202) 564-0034.

SUPPLEMENTARY INFORMATION:

Contents

A. Background

B. Projected Time Frames

C. Review Information

A. Background

On October 1, 2003, a new EPA Strategic Plan describing how the Agency will utilize its resources to meet its mission became effective. The new Strategic Plan covers fiscal years 2003-2008 and consists of five goals with OECA's activities contained in Goal 5—“Compliance and Environmental Stewardship.” Outcome performance measures in Goal 5 capture OECA's work efforts in terms of environmental results achieved. By focusing on environmental results, rather than the activities of Agency programs and organizational units, the goal structure allows for greater flexibility between EPA and its states and federally-recognized Indian tribes (tribes) for solving environmental problems. EPA consulted extensively with the states in the development of the Strategic Plan.

OECA has now aligned its Fiscal Year 2005 through 2007 (FY 2005-2007) work planning cycle with the Agency's strategic planning cycle. OECA's planning cycle sets out short term, annual and multi-year goals for the Office, establishes work planning requirements for the enforcement and compliance assurance programs within the Agency's ten Regional Offices, establishes a small set of national program priorities and requires the development of performance-based strategies to direct the work in the identified priority areas. By aligning its planning cycle with the Agency's Strategic Plan, OECA will be better able to correlate the environmental results achieved in the national enforcement and compliance priorities to the environmental outcomes projected in Goal 5 of the Strategic Plan. The intent of this Federal Register Notice (FR Notice) is to solicit from the public suggestions of new national enforcement and compliance assurance priorities for 2005-2007, and comments on the candidate priorities described below.

This past summer, OECA asked each EPA Regional Office to: (1) Conduct internal discussions about existing and potential national program priorities; and (2) engage its state and tribal regulatory partners in discussions of existing and potential national program priorities for fiscal years 2005-2007. EPA conducted outreach regarding the priorities at an environmental justice forum, which is a federal advisory committee chartered under the Federal Advisory Committee Act (FACA). OECA received comments back from all EPA Regional Offices and six states.

OECA will select the FY 2005-2007 national program priorities using the following criteria:

(a) Significant Environmental Benefit: In what specific areas can the Federal enforcement and compliance assurance programs make a significant positive impact on human health or the environment? What are the known or estimated public health or environmental risks?

(b) Noncompliance: Are there particular economic or industrial sectors, geographic areas or facility operations where regulated entities have demonstrated serious patterns of noncompliance?

(c) EPA Responsibility: What identified national problem areas or programs are better addressed through EPA's Federal capability in enforcement or compliance assistance?

Based on the analysis of all proposals received and ongoing work, OECA has developed the following preliminary list of suggested FY 2005-2007 national priorities. While not all suggestions submitted appear on the preliminary list of candidates, the opportunity remains for those candidates to be adopted as regional, state, tribal, or local priorities. In considering the following list, please note that OECA remains committed to identifying a very limited number of national priorities to retain flexibility to address emerging problems or issues as they arise. In addition, some current priority areas may be carried forward or refined during the FY 2005-2007 work planning cycle to complete unfinished work. Two current priorities will not be continued through FY 2005-2007. The Petroleum Refining priority is anticipated to be completed by the end of calendar year 2005, and the Resource Conservation and Recovery Act (RCRA) Permit Evaders priority will no longer include a focus on waste-derived fertilizer facilities and foundries. Work such as monitoring or tracking the implementation of Consent Decrees will continue for both as part of the Agency's core program activities.

The following list of candidate priorities is divided into the current priorities and suggested new areas. The tables below include a brief description of the environmental problem in each priority area. Greater detail and background information on each priority area can be found at the DOCKET site identified in the address section of this Federal Register.

I. Current Priorities
Priority | Nature of concern
Safe Drinking Water Act—Microbials Plus | Ensure public water systems provide clean and safe drinking water that pose minimal health risks and are largely free from microbiological, chemical or radiological contamination. Efforts would focus upon microbial rules, nitrate requirements and emergency orders to protect public health from contaminants presenting an imminent and substantial endangerment. The suggested priority would also address situations where multiple violations, at one system or different systems in the same geographic area, present an unacceptable cumulative risk to public health.
Clean Water Act/Wet Weather | Ensure compliance with CWA requirements addressing storm water runoff, overflows from combined and sanitary sewers, and concentrated animal feeding operation (CAFO) discharges. These discharges can contain bacteria, pathogens and other pollutants that may cause illnesses in humans, lead to water quality impairment, including beach and shellfish bed closures and harm our nation's water resources.
Clean Air Act (CAA)/New Source Review/Prevention of Significant Deterioration (NSR/PSD) | Ensuring that NSR and PSD requirements of the CAA are implemented. Failure to comply with NSR/PSD requirements may lead to the inadequate control of emissions resulting in the release of thousands of tons of pollution to the air each year, particularly of nitrogen oxides, volatile organic compounds, and particulate matter.
Clean Air Act (CAA)/Air Toxics | Reduce public exposure to toxic air emissions by ensuring compliance through directed monitoring and enforcement with the Maximum Achievable Control Technology (MACT) standards. This is the second phase of this priority following four years of compliance assistance and the development of implementation tools.

II. Suggested New Areas
Title | Nature of concern
Resource Conservation and Recovery Act (RCRA)/Underground Storage Tanks (UST) | Reduce the potential hazard from UST's that can leak petroleum or other hazardous substances into the soil and contaminate groundwater, the source of drinking water for nearly half of all Americans.
Asbestos Hazard Emergency Response Act (AHERA)/Asbestos in Schools | Minimize or eliminate exposure to airborne friable asbestos in schools. Asbestos is a known carcinogen, and poses a significant potential health risk if students are in an environment where they inhale asbestos fibers.
Financial Responsibility | Strengthen compliance with financial responsibility requirements found under various environmental laws to ensure that individuals or companies handling hazardous waste, hazardous substances, toxic materials or pollutants have adequate funds to close their facilities, cleanup any releases, and compensate any parties affected by their actions.
Ports of Entry | Reduce illegal handling or disposal of hazardous waste stemming from lack of knowledge of hazardous waste management regulations by managers at port of entry warehousing facilities. A potential Homeland Security issue, it is also a potential Environmental Justice (EJ) focus area because many ports of entry facilities are located in low income or non-English speaking neighborhoods.
Tribal | In Indian country and tribal areas in Alaska, address significant human health and environmental problems associated with drinking water and waste management. Ensure compliance within targeted areas and address adjacent noncomplying facilities impacting Indian country and tribal areas.
Auto Salvaging Sector | A significant environmental problem due to significant potential of pollutants such as waste oils, gas, mercury, polychlorinated biphenyls (PCBs), and lead reaching the environment from auto salvaging facilities. This sector includes salvage yards, shredders and their residue and dismantlers. Auto yards are located throughout the United States, and many are small businesses.
RCRA—Mineral Processing | Evidence gathered in recent inspections indicates that mineral processing facilities are failing to obtain the necessary permits and adequately manage their wastes. EPA has found that the mishandling of mineral processing wastes has caused significant environmental damage and resulted in costly cleanups. These highly acidic wastes have caused fish kills and the arsenic and cadmium that these wastes often contain have been found in elevated levels in residential drinking water wells.
Federal Facilities | Improve and better maintain compliance at Federal Facilities through more effective implementation of environmental management systems (EMS). An EMS is an organization's overall plan for handling resources, procedures, processes, and policies to advance environmental protection and performance.
Miscellaneous Plastics | Reduce public exposure to hazardous wastes and pollutants released to the land, air, and water by the miscellaneous plastic products manufacturing sector.
Environmental Justice | Ensure that no racial, ethnic or socioeconomic group bears a disproportionate share of negative environmental consequences resulting from industrial, municipal, and commercial activities; or from the execution of federal, state, local and tribal programs and policies. Target one or more areas within each Region for focused attention.
Fuels Management | Potentially large quantities of hazardous pollutants are being emitted to air, surface and ground water, and soil from the storage, distribution and ancillary operations at liquid petroleum and natural gas handling facilities. Ensure compliance across a broad spectrum of environmental statutes to minimize releases.
Significant Noncompliance (SNC) Oversight | Ensure proper management of the enforcement and compliance programs under the CAA, the CWA—National Pollutant Discharge Elimination System, and RCRA by ensuring that instances and patterns of significant noncompliance are identified and addressed by EPA and/or States in a timely manner.

At this time OECA is inviting comments on this preliminary list, and any suggestions for other FY 2005-2007 priorities. When submitting responses to this FR Notice, please rank which of the areas listed above should be a top concern for national focus, as well as suggesting others not included on the current list. If additional problem areas are identified, please provide supporting information on the suggestions and be sure to relate them to the selection criteria. Again, suggested priority areas that are not chosen may be candidates for individual regional, state, or tribal attention and/or continued investigation.

B. Projected Time Frame

After receiving stakeholder responses to this FR Notice OECA will complete its analysis of candidate priorities and present a list recommendations for final approval to the Assistant Administrator for Enforcement and Compliance Assurance in late January, 2004. In February 2004, EPA will issue the draft FY 2005-2007 OECA Work Planning Guidance to Regional Offices, states and tribes for final review. This draft guidance will include the selected EPA enforcement and compliance assurance national priorities.

C. Review Information

Persons interested in obtaining further background information regarding current or proposed FY 2005-2007 national enforcement and compliance assurance priorities may submit a request for hard copy or electronic version of information to: docket.oeca@epa.gov, or contact the docket clerk at (202) 566-1514. Please reference Docket Number OECA-2003-0154 in the request. A reasonable fee may be charged by EPA for copying docket materials.

Dated: December 4, 2003.
John Peter Suarez,
Assistant Administrator, Office of Enforcement and Compliance Assurance.

[FR Doc. 03-30593 Filed 12-9-03; 8:45 am]

BILLING CODE 6560-50-P